DEPARTMENT OF ENERGY

Federal Energy Regulatory Commission

Combined Notice of Filings #2

Take notice that the Commission received the following exempt wholesale generator filings:

Docket Numbers: EG12-80-000.

Applicants: Flat Ridge 2 Wind Energy LLC.

Description: Notice of Self-Certification of Exempt Wholesale Generator Status of Flat Ridge 2 Wind Energy LLC.

Filed Date: 6/26/12.

Accession Number: 20120626-5029.

Comments Due: 5 p.m. ET 7/17/12.

Take notice that the Commission received the following electric rate filings:

Docket Numbers: ER12-1799-001.

Applicants: Cleco Evangeline LLC.

Description: Compliance Filing to be effective 5/2/2012.

Filed Date: 6/26/12.

Accession Number: 20120626-5001.

Comments Due: 5 p.m. ET 7/17/12.

Docket Numbers: ER12-1825-001.

Applicants: EDF Industrial Power Services (CA), LLC.

Description: Supplement to MBR Filing to be effective 5/22/2012.

Filed Date: 6/26/12.

Accession Number: 20120626-5114.

Comments Due: 5 p.m. ET 7/17/12.

Docket Numbers: ER12-2111-000.

Applicants: Southwest Power Pool, Inc.

Description: 1313R5 Oklahoma Gas and Electric Co. NITSA NOA to be effective 6/1/2012.

Filed Date: 6/26/12.

Accession Number: 20120626-5105.

Comments Due: 5 p.m. ET 7/17/12.

Take notice that the Commission received the following public utility holding company filings:

Docket Numbers: PH12-16-000.

Applicants: Anbaric Holding, LLC, EIF Management, LLC, PowerBridge, LLC, Starwood Energy Group Global, LLC, Hudson Power Ventures, LLC.

Description: Form FERC-65B of Hudson Power Ventures, LLC, et al.

Filed Date: 6/26/12.

Accession Number: 20120626-5059.

Comments Due: 5 p.m. ET 7/17/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2012.
Nathaniel J. Davis, Sr.,
Deputy Secretary.

[FR Doc. 2012-16231 Filed 7-2-12; 8:45 am]

BILLING CODE 6717-01-P